DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2023, through April 30, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Rosemary Zummak, Boston, Massachusetts, Court of Federal Claims No: 23-0462V

2. John Staub on behalf of J.S., Blackwood, New Jersey, Court of Federal Claims No: 23-0463V

3. Tonya Appel, Moline, Illinois, Court of Federal Claims No: 23-0465V

4. Karen Hoffken, Washington, District of Columbia, Court of Federal Claims No: 23-0470V

5. Yvette Douglas, Phoenix, Arizona, Court of Federal Claims No: 23-0472V

6. Sarah Whitman Blank, Brookline, Massachusetts, Court of Federal Claims No: 23-0473V

7. Veronica Groom, Bowie, Maryland, Court of Federal Claims No: 23-0474V

8. Madison Aguilera, Shorewood, Illinois, Court of Federal Claims No: 23-0476V

9. Armando Cirello, Weatherford, Texas, Court of Federal Claims No: 23-0478V

10. Linda Finch, Ft. Carson, Colorado, Court of Federal Claims No: 23-0480V

11. Lolita Brache, Hermiston, Oregon, Court of Federal Claims No: 23-0481V

12. Michelle Calderon, Pilot Mountain, North Carolina, Court of Federal Claims No: 23-0482V

13. Richard Capps, Asheville, North Carolina, Court of Federal Claims No: 23-0484V

14. Jeremy Hershberger, Buckeye, Arizona, Court of Federal Claims No: 23-0485V

15. Debra Farmer, St. Clair Shores, Michigan, Court of Federal Claims No: 23-0486V

16. Mary Demyan on behalf of J.D., Cheyenne, Wyoming, Court of Federal Claims No: 23-0488V

17. Paul Granet, Scranton, Pennsylvania, Court of Federal Claims No: 23-0491V

18. Michele Sites, Luray, Virginia, Court of Federal Claims No: 23-0492V

19. Kaja Marshall, Broomfield, Colorado, Court of Federal Claims No: 23-0493V

20. Lauren Johnson, Phoenix, Arizona, Court of Federal Claims No: 23-0494V

21. Veronica Kramb, Amherst, Ohio, Court of Federal Claims No: 23-0495V

22. Yvonne McClay, San Pablo, California, Court of Federal Claims No: 23-0496V

23. Muriel Lyons, Brunswick, Maine, Court of Federal Claims No: 23-0497V

24. Beverly Bowles, Bertrand, Missouri, Court of Federal Claims No: 23-0498V

25. Ann Desena, Pembroke Pines, Florida, Court of Federal Claims No: 23-0500V

26. Hollinger James, East Norriton, Pennsylvania, Court of Federal Claims No: 23-0501V

27. Michael C. Henderson, Boscobel, Wisconsin, Court of Federal Claims No: 23-0502V

28. Abera Mengistu, Silver Spring, Maryland, Court of Federal Claims No: 23-0503V

29. Christie Schwager, Michigan City, Indiana, Court of Federal Claims No: 23-0504V

30. Dai Chen, Wayland, Massachusetts, Court of Federal Claims No: 23-0507V

31. Angela Murphy, York, Pennsylvania, Court of Federal Claims No: 23-0508V

32. James Kennedy, Massapequa, New York, Court of Federal Claims No: 23-0511V

33. Charles Upperman, Chambersburg, Pennsylvania, Court of Federal Claims No: 23-0512V

34. Samantha Kennedy, Massapequa, New York, Court of Federal Claims No: 23-0513V

35. Nick Skinner, Norman, Oklahoma, Court of Federal Claims No: 23-0516V

36. Mai Luong, Reston, Virginia, Court of Federal Claims No: 23-0517V

37. Gerald Ross, McDonough, Georgia, Court of Federal Claims No: 23-0518V

38. Jacquelyn Jackson, Geneva, Illinois, Court of Federal Claims No: 23-0522V

39. David Webb, Indianapolis, Indiana, Court of Federal Claims No: 23-0526V

40. Joseph Parayil, West Chester, Ohio, Court of Federal Claims No: 23-0527V

41. Sally A. Cevasco, Rumford, Rhode Island, Court of Federal Claims No: 23-0530V

42. Roxanne S. Cross, Howell, Michigan, Court of Federal Claims No: 23-0531V

43. Deloris Alford-Robinson, Cayce, South Carolina, Court of Federal Claims No: 23-0532V

44. Jessica Daneshrad, Los Angeles, California, Court of Federal Claims No: 23-0533V

45. Lori Capozzoli, Lincoln, Rhode Island, Court of Federal Claims No: 23-0534V

46. Casandra Rivera, Boston, Massachusetts, Court of Federal Claims No: 23-0535V

47. Daniel L. Wakefield, Boscobel, Wisconsin, Court of Federal Claims No: 23-0536V

48. Christine Maupin on behalf of B.M., Palm Coast, Florida, Court of Federal Claims No: 23-0537V

49. Svetlana Loshak, Wilmington, Massachusetts, Court of Federal Claims No: 23-0541V

50. Diane Broide, Vancouver, Washington, Court of Federal Claims No: 23-0544V

51. Marvin R. Barber, Atlanta, Georgia, Court of Federal Claims No: 23-0546V

52. Patricia Cressman, Allentown, Pennsylvania, Court of Federal Claims No: 23-0552V

53. Ronald Croddick, Old Bridge, New Jersey, Court of Federal Claims No: 23-0558V

54. Amber Hampton, Indianola, Iowa, Court of Federal Claims No: 23-0559V

55. Laucetta Edwards, Farmington Hills, Massachusetts, Court of Federal Claims No: 23-0561V

56. Bobbie Henderson, West Memphis, Arizona, Court of Federal Claims No: 23-0562V

57. Geraldine Keel-Mann, Columbus, Ohio, Court of Federal Claims No: 23-0564V

58. Patricia Weigelt, New Ulm, Minnesota, Court of Federal Claims No: 23-0576V

59. Dong Wan Kim, Closter, New Jersey, Court of Federal Claims No: 23-0578V

60. Cheyenne Andres, Ashwaubenon, Wisconsin, Court of Federal Claims No: 23-0579V

61. Heather Clark, Phoenix, Arizona, Court of Federal Claims No: 23-0582V

62. Marya Nemeh, Edgewater, New Jersey, Court of Federal Claims No: 23-0584V

63. Paul Kriss, Belmont, North Carolina, Court of Federal Claims No: 23-0585V

64. Christopher Derr, Austin, Texas, Court of Federal Claims No: 23-0586V

65. Ceta Jagers-Reine, LaPlace, Louisiana, Court of Federal Claims No: 23-0587V

66. Glendina Hammond-Martin, Columbus, Georgia, Court of Federal Claims No: 23-0588V

67. Phaedra McLaughlin, Phoenix, Arizona, Court of Federal Claims No: 23-0590V

68. Stacy Rodriguez, Spring Hill, Florida, Court of Federal Claims No: 23-0591V

69. Jennel L. Palermo, Rochester, New York, Court of Federal Claims No: 23-0592V

70. Don Little, Boston, Massachusetts, Court of Federal Claims No: 23-0593V

71. Connie Widell, Moline, Illinois, Court of Federal Claims No: 23-0594V

72. Barry Atlas, Sewell, New Jersey, Court of Federal Claims No: 23-0595V

73. Tamara Tutt on behalf of L.T., Morrilton, Arkansas, Court of Federal Claims No: 23-0596V

74. Margarita Zabala, Granada Hills, California, Court of Federal Claims No: 23-0597V

75. Christopher Hoy, Schenectady, New York, Court of Federal Claims No: 23-0598V

76. Willow Wren, Phoenix, Arizona, Court of Federal Claims No: 23-0599V

77. Jody Gorran, Vista, California, Court of Federal Claims No: 23-0603V

78. Allison Hine, Lititz, Pennsylvania, Court of Federal Claims No: 23-0606V

79. Thomas Gorski, Seattle, Washington, Court of Federal Claims No: 23-0607V

80. Shardae Cage, Cleveland, Ohio, Court of Federal Claims No: 23-0613V

81. Marie Librizzi, State College, Pennsylvania, Court of Federal Claims No: 23-0615V

82. Dienel Buckner, St. Louis, Missouri, Court of Federal Claims No: 23-0617V

[FR Doc. 2023-11480 Filed 5-30-23; 8:45 am]

BILLING CODE 4165-15-P